SECURITIES AND EXCHANGE COMMISSION

[File No. 500-1]

Anhui Taiyang Poultry Co., Inc.; a/k/a The Parkview Group, Inc.; Business Development Solutions, Inc., and Tsingyuan Brewery Ltd.; Order of Suspension of Trading

September 5, 2013.

It appears to the Securities and Exchange Commission that there is a lack of current and accurate information concerning the securities of Anhui Taiyang Poultry Co., Inc. a/k/a The Parkview Group, Inc. because it has not filed any periodic reports since the period ended September 30, 2011.

It appears to the Securities and Exchange Commission that there is a lack of current and accurate information concerning the securities of Business Development Solutions, Inc. because it has not filed any periodic reports since the period ended December 31, 2010.

It appears to the Securities and Exchange Commission that there is a lack of current and accurate information concerning the securities of Tsingyuan Brewery Ltd. because it has not filed any periodic reports since the period ended September 30, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on September 5, 2013, through 11:59 p.m. EDT on September 18, 2013.

By the Commission.
Jill M. Peterson,
Assistant Secretary.

[FR Doc. 2013-21969 Filed 9-5-13; 4:15 pm]

BILLING CODE 8011-01-P